DEPARTMENT OF AGRICULTURE

Office of the Secretary

Clarification of Language in the 1994 Record of Decision for the Northwest Forest Plan; National Forests and Bureau of Land Management Districts Within the Range of the Northern Spotted Owl; Western Oregon and Washington, and Northwestern California

AGENCY: Office of the Secretary, USDA.

ACTION: Notice of intent to prepare a supplement to a final environmental impact statement.

SUMMARY: The Forest Service and the Bureau of Land Management (BLM) (collectively the Agencies) will prepare and consider a supplemental environmental impact statement (SEIS) on a proposal to amend the Record of Decision for the Northwest Forest Plan, which was signed on April 13, 1994. Specifically, this proposed action will make the Aquatic Conservation Strategy (ACS) in the Record of Decision consistent with the original intent of the report prepared by the Forest Ecosystem Management Assessment Team, entitled “Forest Ecosystem Management: An Ecological, Economic, and Social Assessment Report of the Forest Ecosystem Management Assessment Team (FEMAT Report).” The proposed action would amend land and resource management plans for National Forests and BLM Districts within the range of the northern spotted owl (generally western Oregon and Washington, and northwestern California).

The Forest Service and BLM will be joint lead agencies for this proposal. The two Agencies will consult as appropriate with the U.S. Fish and Wildlife Service and National Oceanographic and Atmospheric Administration Fisheries (NOAA Fisheries), pursuant to the Endangered Species Act (ESA). Other Federal agencies may also be involved, including the Forest Service's Pacific Northwest and Pacific Southwest Research Stations, Bureau of Indian Affairs, National Park Service, Environmental Protection Agency (EPA), U.S. Army Corps of Engineers, Natural Resources Conservation Service, the U.S. Geological Survey Biological Resources Division, EPA Research Laboratory, and Tribal, local, and state governments. Although the two Agencies have no plans to hold public scoping meetings regarding this proposed action, public comments are invited.

DATES: Comments concerning the scope of the analysis should be received in writing by December 26, 2002.

ADDRESSES: Send written comments concerning this proposal to: Comments, SEIS for Aquatic Conservation Strategy, P.O. Box 2965, Portland, Oregon 97208. Copies of the Record of Decision and Attachment A to the Record of Decision can be obtained electronically at http://www.reo.gov/library/reports/newsandga.pdf. Hard copies can be obtained from the Office of Strategic Planning; P.O. Box 3623, Portland, Oregon 97208.

FOR FURTHER INFORMATION CONTACT: Joyce Casey, SEIS Team Leader, P.O. Box 2965, Portland, Oregon 97208.

SUPPLEMENTARY INFORMATION: The Agencies propose to amend the Aquatic Conservation Strategy (ACS) in Attachment A of the Record of Decision, entitled, “Standards and Guidelines for Management of Habitat for Late-Successional and Old-Growth Forest Related Species Within the Range of the Northern Spotted Owl.” The ACS was designed to operate over multiple spatial scales, with a focus on the broader scales (watershed and landscape). In recent litigation involving claims under the Endangered Species Act, the Ninth Circuit interpreted the ACS provisions of the Northwest Forest Plan.

In Pacific Coast Federation of Fishermen's Associations v. National Marine Fisheries Service, 265 F.3d 1028 (9th Cir. 2001) the Ninth Circuit interpreted the ACS provisions as requiring that each project be consistent with the overall ACS at the site-specific scale, rather than simply satisfying the Standards and Guidelines set forth in the Northwest Forest Plan's Record of Decision Attachment A, sections C and D. This interpretation is not what was intended by the Agencies, and makes it nearly impossible to implement any management actions that could have any effect on riparian areas.

The proposed action would replace portions of text in the Record of Decision at pages i, A-6, B-10, and C-1 of Attachment A with text that clearly reflects the Agencies' original intent. The SEIS will disclose the anticipated effects of the proposed action, as well as of the interpretation as stated in the Ninth Circuit's decision. The SEIS will also consider relevant new science since 1994 and Northwest Forest Plan implementation monitoring results.

Adoption of the proposed action would affect National Forest System (NFS) lands and public lands administered by the BLM within the range of the northern spotted owl, generally in western Oregon and Washington, and in northwestern California.

The Record of Decision for this SEIS will amend, for the Forest Service, the following National Forest Land and Resource Management Plans: Gifford Pinchot, Mt. Baker-Snoqualmie, Olympic, Wenatchee and Okanogan National Forests in Washington; Deschutes, Mt. Hood, Rogue River, Siuslaw, Siskiyou, Umpqua, Willamette, and Winema National Forests in Oregon; and Six Rivers, Klamath, Lassen, Mendocino, Modoc, and Shasta-Trinity National Forests in California. The responsible official for NFS lands will be the Secretary of Agriculture.

The Record of Decision for this SEIS will amend, for the Bureau of Land Management, the following Resource Management Plans: Salem, Eugene, Roseburg, Medford, and Coos Bay Districts in Oregon; the Klamath Falls Resource Area of the Lakeview District, also in Oregon; the Arcata, Redding, and Ukiah field offices in California, and also the King Range National Conservation Area Management Plan in the Arcata Resource Area in California. This decision would not apply to the Headwaters area in California, for which a separate management plan is being written. The responsible official for public lands administered by BLM will be the Secretary of the Interior.

Preliminary issues expected to be addressed in the SEIS include: ensuring that the proposed minor changes in language do not slow the momentum of the Agencies' substantial investment in watershed restoration and aquatic habitat improvement; and whether the proposed action meets all applicable laws and regulations including the Oregon and California Lands Act, the Federal Land Policy and Management Act, the National Forest Management Act, and the Endangered Species Act, and those statutes' implementing regulations.

Although scoping is not required for supplements to environmental impact statements (40 CFR 1502.9(c)(4)), the Agencies are inviting scoping comments at this time. Comments are sought (1) to help the Agencies identify issues to be addressed in the SEIS; (2) to identify significant issues related to the proposed action; refine the proposed action; (3) to identify reasonable alternatives to the proposed action; and (4) to identify interested and affected persons. For comments to be most useful in this analysis, they should be submitted in writing by the date identified above. To assist the Agencies in identifying and considering issues and concerns on the proposed action, comments should be as specific as possible.

The Agencies have no plans to conduct public scoping meetings. However, a scoping letter will be prepared and circulated to affected Federal, State, and local agencies, affected tribes, and individuals and organizations previously expressing an interest in the ACS.

The draft SEIS is expected to be filed with the EPA in February 2003 and will be available for public review. The comment period on the draft SEIS will be 90 days from the date the EPA publishes the notice of availability in the Federal Register. It is helpful if comments refer to specific pages or chapters of the draft document. Comments may also address the adequacy of the draft SEIS or the merits of the alternatives formulated and discussed in the statement. Reviewers may wish to refer to the Council on Environmental Quality Regulations for implementing the procedural provisions of the National Environmental Policy Act at 40 CFR 1503.3 in addressing these points.

The Agencies believe, at this early stage, it is important to give reviewers notice of several court rulings related to public participation in the environmental review process. First, reviewers of the draft SEIS must structure their participation in the environmental review of the proposal so that it is meaningful and alerts an agency to the reviewer's position and contentions. Vermont Yankee Nuclear Power Corp. v. NRDC, 435 U.S. 519, 533 (1978). Also, environmental objections that could be raised at the draft SEIS stage, but that are not raised until after completion of the final SEIS, may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 90-day comment period so that substantive comments and objections are made available to the Agencies at a time when the Agencies can meaningfully consider them and respond to them in the final SEIS.

It is expected that the final SEIS will be filed with the EPA approximately July 2003. The Agencies anticipate there will be a Record of Decision signed in August 2003.

Dated: November 20, 2002.
David P. Tenny,
Deputy Under Secretary, Natural Resource and Environment.

[FR Doc. 02-29951 Filed 11-21-02; 10:33 am]

BILLING CODE 3410-11-P